DEPARTMENT OF TRANSPORTATION

Federal Aviation Administration

14 CFR Part 39

[Docket No. FAA-2016-9185; Product Identifier 2016-NM-077-AD; Amendment 39-19040; AD 2017-19-10]

RIN 2120-AA64

Airworthiness Directives; The Boeing Company Airplanes

AGENCY: Federal Aviation Administration (FAA), DOT.

ACTION: Final rule.

SUMMARY: We are adopting a new airworthiness directive (AD) for certain The Boeing Company Model 757-200, -200PF, and -200CB series airplanes. This AD was prompted by an analysis of the cam support assemblies of the main cargo door (MCD) that indicated that the existing maintenance program for the cam support assemblies is not adequate to reliably detect cracks before two adjacent cam support assemblies could fail. This AD requires an inspection to determine part numbers, repetitive inspections to detect cracking of affected cam support assemblies of the MCD, and replacement if necessary. We are issuing this AD to address the unsafe condition on these products.

DATES: This AD is effective October 27, 2017.

The Director of the Federal Register approved the incorporation by reference of a certain publication listed in this AD as of October 27, 2017.

ADDRESSES: For service information identified in this final rule, contact Boeing Commercial Airplanes, Attention: Contractual & Data Services (C&DS), 2600 Westminster Blvd., MC 110-SK57, Seal Beach, CA 90740-5600; telephone 562-797-1717; Internet https://www.myboeingfleet.com. You may view this service information at the FAA, Transport Standards Branch, 1601 Lind Avenue SW., Renton, WA. For information on the availability of this material at the FAA, call 425-227-1221. It is also available on the Internet at http://www.regulations.gov by searching for and locating Docket No. FAA-2016-9185.

Examining the AD Docket

You may examine the AD docket on the Internet at http://www.regulations.gov by searching for and locating Docket No. FAA-2016-9185; or in person at the Docket Management Facility between 9 a.m. and 5 p.m., Monday through Friday, except Federal holidays. The AD docket contains this final rule, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Chandra Ramdoss, Aerospace Engineer, Airframe Section, FAA, Los Angeles ACO Branch, 3960 Paramount Boulevard, Lakewood, CA 90712-4137; phone: 562-627-5239; fax: 562-627-5210; email: chandraduth.ramdoss@faa.gov.

SUPPLEMENTARY INFORMATION:

Discussion

We issued a notice of proposed rulemaking (NPRM) to amend 14 CFR part 39 by adding an AD that would apply to all The Boeing Company Model 757-200, -200PF, and -200CB series airplanes. The NPRM published in the Federal Register on October 4, 2016 (81 FR 68371) (“the NPRM”). The NPRM was prompted by an analysis of the cam support assemblies of the MCD that indicated that the existing maintenance program for the cam support assemblies is not adequate to reliably detect cracks before two adjacent cam support assemblies could fail. The NPRM proposed to require an inspection to determine part numbers, repetitive inspections to detect cracking of affected cam support assemblies of the MCD, and replacement if necessary. We are issuing this AD to detect and correct cracking of the cam support assemblies of the MCD, which could result in reduced structural integrity of the MCD and consequent rapid decompression of the airplane.

Comments

We gave the public the opportunity to participate in developing this final rule. The following presents the comments received on the NPRM and the FAA's response to each comment.

Requests To Revise Applicability

Boeing, Delta Air Lines (DAL), European Air Transport Leipzig GmbH (EAT), DHL Express (DHL), FedEx Express (FedEx), and United Airlines (UAL) requested that we revise the proposed AD applicability. DAL and UAL requested that airplanes that do not have a MCD be excluded from the AD applicability.

Three of these commenters requested that the actions of the service information be applicable only to airplanes in the service information effectivity. These commenters explained that the service information effectivity includes only airplanes that have a MCD installed by Boeing, either as a Boeing factory-delivered freighter or as a Boeing Supplemental Type Certificate (STC)-converted freighter, and not airplanes that have been converted to a freighter by a non-Boeing STC.

EAT and DHL requested that we revise the applicability of the proposed AD to exclude Model 757 airplanes with passenger to freighter modification STC ST01529SE by Precision Conversions.

FedEx requested that we either withdraw the NPRM and issue a new one, to include a separate section for airplanes modified under VT Mobile Aerospace Engineering STC ST03562AT, or exempt the airplanes modified by that STC from the NPRM and issue a new NPRM for airplanes modified by that STC. FedEx also requested that we revise the NPRM to mandate, for Model 757-200 airplanes modified in accordance with STC ST03562AT, VT Mobile Aerospace Engineering Service Bulletin MAE757SF-SB-52-l 601, Revision 0, dated April 15, 2016, or a subsequent revision, instead of Boeing Alert Service Bulletin 757-52A0094, dated December 23, 2015. FedEx explained that the MCD that is installed by the Precision Conversion STC is different than that installed by Boeing or VT Mobile Aerospace Engineering and does not have the affected cam support fittings installed. FedEx stated that it prefers the VT Mobile Aerospace Engineering service information for modifying airplanes instead of the Boeing service information, since Boeing does not provide support for the VT Mobile Aerospace STC, and any discrepancies or questions on the Boeing service information would be addressed by Boeing based on goodwill, rather than by contractual agreement.

We partially agree with the commenters' requests. We agree that the unsafe condition does not apply to Model 757-200 airplanes that do not have a MCD and to airplanes modified from passenger to freighter in accordance with Precision Conversions STC ST01529SE. The unsafe condition applies only to MCD cam support assemblies with the specified part numbers.

We disagree that the AD should apply only to Boeing converted freighters. We also disagree that a separate AD should be issued to address Model 757-200 freighters modified by STC ST03562AT or any of the other passenger-to-freighter modification STCs because these support assemblies having affected part numbers could be installed during original aircraft manufacture, or during passenger-to-freighter modification. The unsafe condition applies only to airplanes with certain part number cam support assemblies installed, and it does not apply to Model 757-200 airplanes that do not have a MCD.

Paragraphs (g) and (h) of this AD list the part numbers of the cam support assemblies that have the unsafe condition. We have confirmed that the cam support assemblies having affected part numbers are not installed on Model 757 airplanes as part of the Precision Conversions STC ST01529SE passenger-to-freighter conversion. We have revised the SUMMARY section, Discussion section, and paragraph (c) of this AD to state that the AD applies to all Model 757-200, -200PF, and -200CB series airplanes equipped with a MCD, except those airplanes that have been converted from a passenger to freighter configuration in accordance with STC ST01529SE.

We expect that the actions specified in Boeing Alert Service Bulletin 757-52A0094, Revision 2, dated May 2, 2017 (“ASB 757-52A0094, R2”), can be accomplished on airplanes that are not identified in that service information. In addition, we do not consider it appropriate to include various provisions in an AD applicable only to an operator's unique configuration of affected airplanes. However, if an operator with a Model 757-200 freighter cannot accomplish the required actions specified in the service information, or prefers to use different service information that is specific to their design (such as FedEx's request to use VT Mobile Aerospace Engineering Service Bulletin MAE757SF-SB-52-l 601, Revision 0, dated April 15, 2016), an alternative method of compliance (AMOC) can be requested in accordance with paragraph (j) of this AD.

Requests To Revise the Compliance Time

Boeing and FedEx requested that we revise the compliance time in paragraph (g)(l) of the proposed AD from “18,000 total flight cycles” to “18,000 door flight cycles.” The commenters explained that some of the affected airplanes have been converted from passenger to freighter airplanes, and for these converted airplanes, the cam support assemblies were installed at the time of the aircraft conversion, not when the airplanes were produced. The commenters stated that, for these converted airplanes, the initial compliance time for inspection should be based on the number of flight cycles since the part has been installed. In addition, Boeing stated that ASB 757-52A0094, R2, was revised to change the inspection threshold for Boeing converted freighter airplanes to total flight cycles after freighter conversion redelivery.

We agree with the commenters' request. For airplanes that have been converted to freighters, the compliance time for the initial inspection should be based on the number of cycles the cam support assembly has been in service. We have revised paragraph (g)(1) of this AD accordingly.

Request To Withdraw the NPRM and Reference Revised Service Information

FedEx requested that we withdraw the NPRM and issue a new NPRM to require compliance with ASB 757-52A0094, R2, instead of Boeing Alert Service Bulletin 757-52A0094, dated December 23, 2015.

We partially agree with the commenter's request. We agree with the commenter's request to reference ASB 757-52A0094, R2, as the appropriate source of service information. Revision 1 of Boeing Alert Service Bulletin 757-52A0094, dated April 21, 2016 (“ASB 757-52A0094, R1”), removed one airplane from the effectivity and updated some references and publications affected. ASB 757-52A0094, R2, removed non-Boeing-STC-converted freighter airplanes from the effectivity and changed the initial compliance time for the converted freighter airplanes to flight cycles after freighter conversion redelivery.

We disagree with withdrawing the NPRM and reissuing a new NPRM requiring compliance with ASB 757-52A0094, R2, because doing so would unnecessarily delay issuance of the final rule. Additionally, the compliance time can be corrected in the final rule without the need for a supplemental NPRM since the corrected compliance time will provide additional time for the converted freighter airplanes and will not reduce the initial compliance time for any airplane. We have revised this AD to refer to ASB 757-52A0094, R2, as the appropriate source of service information. We have also added paragraph (i) to this AD to provide credit for actions required by paragraph (h) of this AD, if those actions were performed before the effective date of this AD using Boeing Alert Service Bulletin 757-52A0094, dated December 23, 2015; or ASB 757-52A0094, R1. We have redesignated subsequent paragraphs accordingly.

Request To Correct Manual Reference in the Service Information

United Parcel Service (UPS) requested that we revise paragraph (h) of the proposed AD to specify use of Airplane Maintenance Manual (AMM) 52-32-11 in lieu of Component Maintenance Manual (CMM) 52-32-03 for the cam and bell-crank assembly installation. UPS explained that Boeing Alert Service Bulletin 757-52A0094, dated December 23, 2015, included an incorrect manual reference.

We partially agree with the commenter's request. We agree that the manual reference is incorrect in Boeing Alert Service Bulletin 757-52A0094, dated December 23, 2015. The incorrect reference was changed in ASB 757-52A0094, R2, and, as explained previously, ASB 757-52A0094, R2, is referenced as the appropriate source of service information in this AD. No further change is necessary in this regard.

Conclusion

We reviewed the relevant data, considered the comments received, and determined that air safety and the public interest require adopting this final rule with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this final rule.

Related Service Information Under 1 CFR Part 51

We reviewed Boeing Alert Service Bulletin 757-52A0094, Revision 2, dated May 2, 2017. This service information describes procedures for an ultrasonic inspection of the cam support assemblies of the main cargo door, and replacement of the cam support assemblies. This service information is reasonably available because the interested parties have access to it through their normal course of business or by the means identified in the ADDRESSES section.

Costs of Compliance

We estimate that this AD will affect 212 airplanes of U.S. registry.

We estimate the following costs to comply with this AD:

Estimated Costs
Action | Labor cost | Parts cost | Cost per product | Cost on U.S. operators
Inspection | 6 work-hours × $85 per hour = $510 per inspection cycle | $0 | $510 per inspection cycle | $108,120 per inspection cycle.

We estimate the following costs to do any necessary replacements that would be required based on the results of the inspection. We have no way of determining the number of aircraft that might need these replacements:

On-Condition Costs
Action | Labor cost | Parts cost | Cost per product
Replacement (per pair of cam support assemblies) | 60 work-hours × $85 per hour = $5,100 | $15,298 | $20,398

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-19-10 The Boeing Company: Amendment 39-19040; Docket No. FAA-2016-9185; Product Identifier 2016-NM-077-AD.

(a) Effective Date

This AD is effective October 27, 2017.

(b) Affected ADs

None.

(c) Applicability

This AD applies to The Boeing Company Model 757-200, -200PF, and -200CB series airplanes, certificated in any category, equipped with a main cargo door (MCD), except those airplanes that have been converted from a passenger to freighter configuration in accordance with Supplemental Type Certificate ST01529SE (http://rgl.faa.gov/Regulatory_and_Guidance_Library/rgstc.nsf/0/9c0283b6ce0b9ff18625806b007340b9/$FILE/ST01529SE.pdf).

(d) Subject

Air Transport Association (ATA) of America Code 52, Doors.

(e) Unsafe Condition

This AD was prompted by an analysis of the cam support assemblies of the MCD that indicated that the existing maintenance program for the cam support assemblies is not adequate to reliably detect cracks before two adjacent cam support assemblies could fail. We are issuing this AD to detect and correct cracking of the cam support assemblies of the MCD, which could result in reduced structural integrity of the MCD and consequent rapid decompression of the airplane.

(f) Compliance

Comply with this AD within the compliance times specified, unless already done.

(g) Inspection To Determine Part Numbers

At the later of the times specified in paragraphs (g)(1) and (g)(2) of this AD: Inspect the cam support assemblies of the MCD to determine whether part number (P/N) 69-23588-5, 69-23588-6, 69-23588-7, 69-23588-8, 69-23588-9, or 69-23588-10 is installed. A review of airplane maintenance records is acceptable in lieu of this inspection if the part number(s) of the cam support assemblies of the MCD can be conclusively determined from that review.

(1) Before the accumulation of 18,000 total flight cycles since installation of the MCD. If the flight cycles since installation of the MCD are not known, use total airplane flight cycles.

(2) Within 2,743 flight cycles or 27 months after the effective date of this AD, whichever occurs later.

(h) Inspections and Corrective Actions

If, during the inspection required by paragraph (g) of this AD, any cam support assembly of the MCD having P/N 69-23588-5, 69-23588-6, 69-23588-7, 69-23588-8, 69-23588-9, or 69-23588-10 is determined to be installed: At the later of the times specified in paragraphs (g)(1) and (g)(2) of this AD, do an ultrasonic inspection to detect cracking of the affected cam support assemblies of the MCD; and do all applicable replacements; in accordance with the Accomplishment Instructions of Boeing Alert Service Bulletin 757-52A0094, Revision 2, dated May 2, 2017. Do all applicable replacements before further flight. Repeat the inspection thereafter at intervals not to exceed 6,000 flight cycles. Replacement of a cam support assembly of the MCD does not terminate the repetitive inspections required by this paragraph.

(i) Credit for Previous Actions

This paragraph provides credit for actions required by paragraph (h) of this AD, if those actions were performed before the effective date of this AD using Boeing Alert Service Bulletin 757-52A0094, dated December 23, 2015; or Boeing Alert Service Bulletin 757-52A0094, Revision 1, dated April 21, 2016.

(j) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO Branch, to make those findings. To be approved, the repair method, modification deviation, or alteration deviation must meet the certification basis of the airplane, and the approval must specifically refer to this AD.

(4) For service information that contains steps that are labeled as Required for Compliance (RC), the provisions of paragraphs (j)(4)(i) and (j)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

(1) For more information about this AD, contact Chandra Ramdoss, Aerospace Engineer, Airframe Section, FAA, Los Angeles ACO Branch, 3960 Paramount Boulevard, Lakewood, CA 90712-4137; phone: 562-627-5239; fax: 562-627-5210; email: chandraduth.ramdoss@faa.gov.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 757-52A0094, Revision 2, dated May 2, 2017.

(ii) Reserved.

(3) For service information identified in this AD, contact Boeing Commercial Airplanes, Attention: Contractual & Data Services (C&DS), 2600 Westminster Blvd., MC 110-SK57, Seal Beach, CA 90740-5600; telephone 562-797-1717; Internet https://www.myboeingfleet.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 7, 2017.
Jeffrey E. Duven,
Director, System Oversight Division, Aircraft Certification Service.

[FR Doc. 2017-19767 Filed 9-21-17; 8:45 am]

BILLING CODE 4910-13-P